SECURITIES AND EXCHANGE COMMISSION

[Release No. 34-93972; File No. SR-MIAX-2021-58]

Self-Regulatory Organizations; Miami International Securities Exchange, LLC; Notice of Designation of a Longer Period for Commission Action on a Proposed Rule Change To Adopt Exchange Rule 532, Order and Quote Price Protection Mechanisms and Risk Controls

January 13, 2022.

On November 16, 2021, Miami International Securities Exchange, LLC (“MIAX Options” or the “Exchange”) filed with the Securities and Exchange Commission (the “Commission”), pursuant to Section 19(b)(1) of the Securities Exchange Act of 1934 (“Act”) ¹ and Rule 19b-4 thereunder,² a proposed rule change to adopt a new Managed Protection Override feature, a new Max Put Price Protection feature, and a new MIAX Strategy Price Protection, which will be included in new Exchange Rule 532, “Order and Quote Price Protection Mechanisms and Risk Controls.” The proposed rule change was published for comment in the Federal Register on December 3, 2021.³ The Commission has received no comment letters regarding the proposed rule change.

¹ 15 U.S.C. 78s(b)(1).

² 17 CFR 240.19b-4.

³ See Securities Exchange Act Release No. 93676 (November 29, 2021), 86 FR 68695.

Section 19(b)(2) of the Act ⁴ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day after publication of the notice for the proposed rule change is January 17, 2022.

⁴ 15 U.S.C. 78s(b)(2).

The Commission is extending the 45-day period for Commission action on the proposed rule change. The Commission finds that it is appropriate to designate a longer period within which to take action on the proposed rule change so that it has sufficient time to consider and act on the proposed rule change. Accordingly, pursuant to Section 19(b)(2) of the Act,⁵ the Commission designates March 3, 2022, as the date by which the Commission shall either approve, disapprove, or institute proceedings to determine whether to disapprove the proposed rule change (File No. SR-MIAX-2021-58).

⁵ Id.

⁶ 17 CFR 200.30-3(a)(31).

For the Commission, by the Division of Trading and Markets, pursuant to delegated authority.⁶
J. Matthew DeLesDernier,
Assistant Secretary.

[FR Doc. 2022-00978 Filed 1-19-22; 8:45 am]

BILLING CODE 8011-01-P